FEDERAL COMMUNICATIONS COMMISSION

[CC Docket No. 92-237; DA 03-2060]

Next Meeting of the North Amercian Numbering Council

AGENCY: Federal Communications Commission.

ACTION: Notice.

SUMMARY: On June 24, 2003, the Commission released a public notice announcing the July 15, 2003 meeting and agenda of the North American Numbering Council (NANC). The intended effect of this action is to make the public aware of the NANC's next meeting and its agenda.

DATES: Tuesday, July 15, 2003, 9 a.m.

ADDRESSES: Telecommunications Access Policy Division, Wireline Competition Bureau, Federal Communications Commission, The Portals II, 445 12th Street, SW., Suite 5-A420, Washington, DC 20554. Requests to make an oral statement or provide written comments to the NANC should be sent to Deborah Blue.

FOR FURTHER INFORMATION CONTACT: Deborah Blue, Special Assistant to the Designated Federal Officer (DFO) at (202) 418-1466 or dblue@fcc.gov. The fax number is: (202) 418-2345. The TTY number is: (202) 418-0484.

SUPPLEMENTARY INFORMATION: Released: June 24, 2003.

The North American Numbering Council (NANC) has scheduled a meeting to be held Tuesday, July 15, 2003, from 9 a.m. until 5 p.m. The meeting will be held at the Federal Communications Commission, Portals II, 445 12th Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Tuesday, July 15, 2003, 9 AM

1. Announcements and Recent News

2. Approval of Minutes

—Meeting of May 13, 2003

3. Report of the North American Numbering Plan Administrator (NANPA)

4. Report of National Thousands Block Pooling Administrator

—Activity report

5. Report of 3-Digit DIG IMG

6. Report of Numbering Oversight Working Group

7. Status of Industry Numbering Committee activities

8. Report of the Local Number Portability Administration (LNPA) Working Group

—Wireless Number Portability Operations (WNPO) Subcommittee

9. Report from NBANC

10. Report of Cost Recovery Working Group

11. Summary of Action Items

12. Steering Committee

—Table of NANC Projects

13. Public Comments and Participation (5 minutes per speaker)

14. Other Business

Adjourn no later than 5 p.m.

Federal Communications Commission
Cheryl L. Callahan,
Assistant Chief, Telecommunications Access Policy Division, Wireline Competition Bureau.

[FR Doc. 03-16411 Filed 6-27-03; 8:45 am]

BILLING CODE 6712-01-P